DEPARTMENT OF AGRICULTURE

Submission for OMB Review; Comment Request

June 26, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 31, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Third Access, Participation, Eligibility and Certification Study Series (APEC III).

OMB Control Number: 0584-0530.

Summary of Collection: The National School Lunch Program (NSLP) and the School Breakfast Program (SBP), administered by the Food and Nutrition Service (FNS) of the U.S. Department of Agriculture (USDA), are authorized under sections 10 and 4, respectively, of the Richard B. Russell National School Lunch Act of 1966 (42 U.S.C. 1766). The Improper Payment Information Act (IPIA) of 2002 (Pub. L. 107-300), the Improper Payments Elimination and Recovery Act (IPERA) of 2010 (Pub. L. 111-204), the Improper Payments Elimination and Recovery Improvement Act (IPERIA) of 2012 (Pub. L.112-248), and Executive Order 13520—Reducing Improper Payments set forth the priority, mandate, and requirements for FNS to identify, estimate, and reduce erroneous payments in these programs, including both underpayments and overpayments. The APEC III study will provide FNS with the information needed to reduce improper payments in the school meals programs.

Need and Use of the Information: This study will survey a nationally representative sample of School Food Authorities (SFAs) in the contiguous 48 states and the District of Columbia, a stratified sample of schools within each SFA, and a random sample of students within each sampled school that applied for free and reduced-price meals, were categorically eligible for free meals or were directly certified for free meals. FNS will use the data to develop national estimates of the annual error rates and erroneous payments for the NSLP and SBP in school year 2017-2018, to identify characteristics that may be related to the error rates, and to identify strategies and guidance for reducing these errors.

Description of Respondents: State, Local, or Tribal Government; Individuals and Households.

Number of Respondents: 9,452.

Frequency of Responses: Reporting: Annually.

Total Burden Hours: 13,042.

Ruth Brown,
Departmental Information Collection Clearance Officer.

[FR Doc. 2017-13605 Filed 6-28-17; 8:45 am]

BILLING CODE 3410-30-P